DEPARTMENT OF LABOR

Employment and Training Administration

[TA-W-39,376]

Ocello, Inc., Now Known as H.H. Fessler Knitting Co., Inc., Bedford, PA; Amended Certification Regarding Eligibility To Apply for Worker Adjustment Assistance

In accordance with section 223 of the Trade Act of 1974 (19 U.S.C. 2273) the Department of Labor issued Amended Certification Regarding Eligibility to Apply for Worker Adjustment Assistance on September 21, 2001, applicable to workers of Ocello, Inc., Richland, Pennsylvania. The notice was published in the Federal Register on October 11, 2001 (68 FR 25060).

At the request of the State agency, the Department reviewed the certification for workers of the subject firm. The workers were engaged in the production of knit garments until the company closed at the end of June, 2001.

New information shows that Ocello, Inc. became known as H.H. Fessler Knitting Co., Inc. in June 2002 due to a change in ownership. Workers separated from employment as the subject firm had their wages reported under a separated unemployment insurance (UI) tax account for H.H. Fessler Knitting Co., Inc.

Accordingly, the Department is amending this certification to properly reflect this matter.

The intent of the Department's certification is to include all workers of Ocello, Inc. who were adversely affected by increased imports.

The amended notice applicable to TA-W-39,376 is hereby issued as follows:

All workers of Ocello, Inc., now known as H.H. Fessler Knitting Co., Inc., Richland, Pennsylvania, who became totally or partially separated from employment on or after May 17, 2000, through September 21, 2003, are eligible to apply for adjustment assistance under section 223 of the Trade Act of 1974.

Signed at Washington, DC this 3rd day of November 2003.
Linda G. Poole,
Certifying Officer, Division of Trade Adjustment Assistance.

[FR Doc. 03-29553 Filed 11-25-03; 8:45 am]

BILLING CODE 4510-30-P